DEPARTMENT OF HOMELAND SECURITY

Coast Guard

[Docket No. USCG-2012-0770]

Towing Safety Advisory Committee; Meeting

AGENCY: Coast Guard, DHS.

ACTION: Notice of Federal Advisory Committee Meeting.

SUMMARY: The Towing Safety Advisory Committee (TSAC) will meet on September 19 and 20, 2012. On September 19, the committee will meet to discuss administrative matters and then recess for the separate but concurrent meetings of the four subcommittees, “Recommendations for the Prevention of Towing Vessel Crewmember Falls Overboard”, “Review and recommendations for the revision of NVIC 1-95, Voluntary Training Standards for Entry-Level Personnel on Towing Industry Vessels”, “Recommendations for the Enhancement of Towing Vessel Stability” and “Recommendations for Safety Standards of Portable Facility Vapor Control Systems Used for Marine Operations.” The committee will reconvene on September 20, 2012. The meetings of the TSAC on both days and the meeting of the subcommittees are open to the public.

DATES: On Wednesday, September 19, 2012, from 8:30 a.m. to noon, the TSAC will meet to discuss administrative matters, and from 1:30 to 5 p.m. the four subcommittees identified in the “Agenda” will meet. On Thursday, September 20, 2012, the TSAC will meet from 8:30 a.m. to 4:30 p.m. Please note that these meetings may close early if the committee has completed its business. Oral comments may be made at the September 20 meeting. Written comments must be submitted no later than September 10, 2012 by using one of the methods listed below.

ADDRESSES: The meetings will be held at the Federal Center South GSA Facility, 4735 East Marginal Way South, Seattle, WA 98134.

If you are planning to attend the meeting, you will be required to pass through a security checkpoint. You will be required to show state-issued photo identification. Please arrive at least 30 minutes before the planned start of the meeting in order to pass through security.

For information on facilities or services for individuals with disabilities or to request special assistance at the meeting, contact the individuals listed in the FOR FURTHER INFORMATION CONTACT section, as soon as possible.

To facilitate public participation, we are inviting public comment on the issues to be considered by the committee as listed in the “Agenda” section below. Written comments must be identified by Docket No. USCG-2012-0770 and submitted by one of the following methods:

• Federal Rulemaking Portal: http://www.regulations.gov. Follow the instructions for submitting comments.

• Mail: Docket Management Facility (M-30), U.S. Department of Transportation, West Building Ground Floor, Room W12-140, 1200 New Jersey Avenue SE., Washington, DC 20590- 0001. We encourage use of electronic submissions because security screening may delay the delivery of mail.

• Fax: 202-493-2251.

• Hand Delivery: Same as mail address above, between 9 a.m. and 5 p.m., Monday through Friday, except Federal holidays. The telephone number is 202-366-9329.

• To avoid duplication, please use only one of these methods. Instructions: All submissions received must include the words “Department of Homeland Security” and the docket number of this action. All comments submitted will be posted on www.regulations.gov without alteration and will contain any personal information you provided. You may review a Privacy Act notice regarding our public dockets in the January 17, 2008, issue of the Federal Register (73 FR 3316).

Docket: For access to the docket to read documents or comments related to this notice, go to http://www.regulations.gov, insert USCG-2012-0770 in the Keyword ID box, press Enter, and then click on the item you are interested in viewing.

FOR FURTHER INFORMATION CONTACT: Commander Rob Smith, Designated Federal Officer (DFO) or Mr. Patrick Mannion, Alternate Designated Federal Officer (ADFO), TSAC; U.S. Coast Guard Headquarters, CG-OES-2, Vessel and Facilities Operating Standards Division; telephone (202) 372-1439, fax (202) 372-1926, or email at: Patrick.J.Mannion@USCG.MIL.

SUPPLEMENTARY INFORMATION: Notice of this meeting is given under the Federal Advisory Committee Act (FACA), 5 U.S.C. App. (Pub. L. 92-463). This Committee is established in accordance with and operates under the provisions of the FACA. The Towing Safety Advisory Committee provides advice and recommendations to the Department of Homeland Security on matters relating to shallow-draft inland and coastal waterway navigation and towing safety. See 33 U.S.C. 1231a.

Agenda

On September 19, 2012, from 8:30 a.m. to noon, the TSAC will meet to discuss administrative matters such as logistical support and review the committee charter and bylaws. The TSAC will recess at noon and starting at 1:30 p.m. the following four subcommittees will convene to discuss work remaining on their open task statements. These subcommittees will conclude their meetings at 5 p.m.

• Recommendations for the Prevention of Towing Vessel Crewmember Falls Overboard.

• Review and recommendations for the revision of NVIC 1-95, Voluntary Training Standards for Entry-Level Personnel on Towing Industry Vessels.

• Recommendations for the Enhancement of Towing Vessel Stability.

• Recommendations for Safety Standards of Portable Facility Vapor Control Systems Used for Marine Operations.

On September 20, 2012, at 8:30 a.m., the TSAC will reconvene. The committee will review and discuss the four open Task Statements currently before the committee. The TSAC will receive briefings from the Task Statement subcommittees to inform the TSAC of their work, to review and discuss the research, and to determine the disposition of the Task Statements. Presentations and discussions will include the following subjects:

• Presentation from the Towing Vessel Stability Casualty Data subcommittee and discussion of the task “Towing Vessel Stability;”

• Presentation from the Towing Vessel Crewmember Competencies subcommittee and discussion of the task Towing Vessel Crewmember Competencies;

• Presentation from the Falls Overboard subcommittee and discussion of the task “Prevention of Falls Overboard, Towing Vessels;”

• Presentation on Task Statement “Recommendations for Safety Standards of Portable Facility Vapor Control Systems Used for Marine Operations.”

• Presentation of Coast Guard initiative for use of automated identification systems for towing vessels during tow reconfiguration;

• Presentation of potential Task Statement “Recommendations to Improve Operational, Structural or Other Standards to Enhance Fire Prevention and Containment Aboard Towing Vessels.”

• Presentation of potential Task Statement “Recommendations for Inspected Towing Vessel Manning Scales for Both Domestic and International Operations”;

• Report from the Supervisor, Towing Vessel National Center of Expertise.

Public Comment Period

An opportunity for oral comments by the public will be provided during the meeting on September 20, 2012, as the final agenda item. Speakers are requested to limit their comments to 5 minutes. Please note that the public oral comment period may end before 4:30 p.m. if all of those wishing to comment have done so.

Minutes

Minutes from the meeting will be available for the public review and copying within 30 days following the close of the meeting and can be accessed from the Coast Guard Homeport Web site http://homeport.uscg.mil; select these options: Mission>Port and Waterways>Safety Advisory Committees>TSAC>Meetings/Minutes or>Task Statements or the online docket for this notice.

Dated: August 7, 2012.
J.G. Lantz,
Director of Commercial Regulations and Standards.

[FR Doc. 2012-20000 Filed 8-14-12; 8:45 am]

BILLING CODE 9110-04-P